DEPARTMENT OF LABOR

Occupational Safety and Health Administration

[Docket No. OSHA-2009-0025]

Expansion of the Scope of NRTL Recognition of Underwriters Laboratories Inc.; Modification to the Scopes of NRTL Recognition of FM Approvals LLC, Intertek Testing Services NA Inc., and Underwriters Laboratories Inc.

AGENCY: Occupational Safety and Health Administration (OSHA), Labor.

ACTION: Notice.

SUMMARY: This notice announces the Occupational Safety and Health Administration's final decision expanding the recognition of Underwriters Laboratories Inc., (UL) as a Nationally Recognized Testing Laboratory (NRTL) under 29 CFR 1910.7. This notice also modifies the scopes of recognition of the following three NRTLs: FM Approvals LLC, Intertek Testing Services NA Inc., and Underwriters Laboratories Inc.

DATES: The expansion of recognition and modification to the scopes of recognition becomes effective on December 10, 2010.

FOR FURTHER INFORMATION CONTACT: MaryAnn Garrahan, Director, Office of Technical Programs and Coordination Activities, NRTL Program, Occupational Safety and Health Administration, U.S. Department of Labor, 200 Constitution Avenue, NW., Room N-3655, Washington, DC 20210, or phone (202) 693-2110.

SUPPLEMENTARY INFORMATION:

Notice of Final Decision

The Occupational Safety and Health Administration (OSHA) hereby gives notice that it is expanding recognition of Underwriters Laboratories Inc., (UL) as an NRTL. UL's expansion covers the use of additional test standards. OSHA's current scope of recognition for UL is in the following informational Web page: http://www.osha.gov/dts/otpca/nrtl/ul.html.

OSHA recognition of an NRTL signifies that the organization meets the legal requirements specified in 29 CFR 1910.7. Recognition is an acknowledgment that the organization can perform independent safety testing and certification of the specific products covered within its scope of recognition, and is not a delegation or grant of government authority. As a result of recognition, employers may use products approved by the NRTL to meet OSHA standards that require product testing and certification.

The Agency processes applications by an NRTL for initial recognition, or for expansion or renewal of this recognition, following requirements in Appendix A to 29 CFR 1910.7. This appendix requires that the Agency publish two notices in the Federal Register in processing such an application. In the first notice, OSHA announces the application and provides its preliminary finding and, in the second notice, the Agency provides its final decision on the application. These notices set forth the NRTL's scope of recognition or modifications of that scope. OSHA maintains an informational Web page for each NRTL that details its scope of recognition. These pages are available from the Web site at http://www.osha.gov/dts/otpca/nrtl/index.html. Each NRTL's scope of recognition has three elements: (1) The type of products the NRTL may test, with each type specified by its applicable test standard; (2) the recognized site(s) that has/have the technical capability to perform the testing and certification activities for test standards within the NRTL's scope; and (3) the supplemental program(s) that the NRTL may use, each of which allows the NRTL to rely on other parties to perform activities necessary for product testing and certification.

UL submitted an application, dated February 20, 2008, as an amendment to its application for renewal of recognition. (Ex. 2-UL expansion application dated 2/20/2008.) This amendment requested an expansion of recognition to add 98 standards ¹ to UL's scope, and to delete several test standards from its scope. The NRTL Program staff determined that 49 of the requested standards are “appropriate test standards” within the meaning of 29 CFR 1910.7(c). UL later modified its request to reduce the number of the appropriate standards to 35. (Ex. 3-UL amended expansion application dated 2/16/2010.)

¹ UL requested recognition for ANSI/AAMI ES60601-1:2005, but OSHA has not yet determined whether this standard may be used by NRTLs. OSHA will request public comment on the suitability of this standard in an upcoming Federal Register notice.

In connection with this request, NRTL Program staff did not perform any on-site review of UL's recognized sites. The staff only performed a comparability analysis,² and recommended expansion of UL's recognition to include the 35 test standards. The Agency published a preliminary notice announcing the expansion application in the Federal Register on April 26, 2010 (79 FR 21664). OSHA requested comments on the notice by May 11, 2010; OSHA received no comments in response to this notice. OSHA now is proceeding with this final notice to grant UL's expansion application.

² This analysis involves determining whether the testing and evaluation requirements of test standards already in an NRTL's scope are comparable to the requirements in the standards requested by the NRTL.

All public documents pertaining to the UL application are available for review by contacting the Docket Office, Occupational Safety and Health Administration, U.S. Department of Labor, 200 Constitution Avenue, NW., Room N-2625, Washington, DC 20210. These materials also are available online at http://www.regulations.gov under Docket No. OSHA-2009-0025.

Final Decision and Order

NRTL Program staff examined UL's application, the comparability analysis, and other pertinent information. Based upon this examination and the analysis, OSHA finds that UL meets the requirements of 29 CFR 1910.7 for expansion of its recognition, subject to the limitation and conditions listed below. Pursuant to the authority granted by 29 CFR 1910.7, OSHA hereby expands the recognition of UL, subject to this limitation and these conditions.

Limitation

OSHA limits the expansion of UL's recognition to testing and certification of products for demonstration of conformance to the following test standards, each of which OSHA determines is an appropriate test standard within the meaning of 29 CFR 1910.7(c):

IEEE C37.20.4 Indoor AC Switches (1 kV-38 kV) for Use in Metal-Enclosed Switchgear ᵃ

IEEE C37.20.6 4.76 kV to 38 kV Rated Grounding and Testing Devices Used in Enclosures ᵃ

IEEE C37.23 Metal-Enclosed Bus ᵃ

IEEE C37.41 High-Voltage Fuses, Distribution Enclosed Single-Pole Air Switches, Fuse Disconnecting Switches, and Accessories ᵃ

IEEE C37.74 Subsurface, Vault, and Pad-Mounted Load-Interrupter Switchgear and Fused Load-Interrupter Switchgear for Alternating Current Systems Up to 38 kV Switchgear ᵃ

IEEE C57.12.44 Secondary Network Protectors ᵃ

ISA 12.12.01 Nonincendive Electrical Equipment for Use in Class I and II, Division 2 and Class III, Divisions 1 and 2 Hazardous (Classified) Locations

UL 5C Surface Raceways and Fittings for Use with Data, Signal, and Control Circuits

UL 283 Air Fresheners and Deodorizers

UL 458 Power Converters/Inverters and Power Converter/Inverter Systems for Land Vehicles and Marine Crafts ᵇ

NFPA 496 Purged and Pressurized Enclosures for Electrical Equipment

UL 852 Metallic Sprinkler Pipe for Fire Protection Service

UL 962 Household and Commercial Furnishings ᶜ

UL 1340 Hoists

UL 1626 Residential Sprinklers for Fire Protection Service

UL 2225 Cables and Cable Fittings for Use in Hazardous (Classified) Locations

UL 2443 Flexible Sprinkler Hose with Fittings for Fire Protection Service

UL 5085-2 Low Voltage Transformers—Part 2: General Purpose Transformers

UL 60730-2-8 Automatic Electrical Controls for Household and Similar Use; Part 2: Particular Requirements for Electrically Operated Water Valves, Including Mechanical Requirements

UL 60745-2-1 Particular Requirements for Drills and Impact Drills

UL 60745-2-3 Particular Requirements for Grinders, Polishers and Disk-Type Sanders

UL 60745-2-11 Particular Requirements for Reciprocating Saws

UL 60745-2-12 Particular Requirements for Concrete Vibrators

UL 60745-2-14 Particular Requirements for Planers

UL 60745-2-17 Particular Requirements for Routers and Trimmers

UL 60745-2-18 Particular Requirements for Strapping Tools

UL 60745-2-19 Particular Requirements for Jointers

UL 60745-2-2 Particular Requirements for Screwdrivers and Impact Wrenches

UL 60745-2-20 Particular Requirements for Band Saws

UL 60745-2-21 Particular Requirements for Drain Cleaners

UL 60745-2-4 Particular Requirements for Sanders and Polishers Other Than Disk Type

UL 60745-2-5 Particular Requirements for Circular Saws

UL 60745-2-6 Particular Requirements for Hammers

UL 60745-2-8 Particular Requirements for Shears and Nibblers

UL 60745-2-9 Particular Requirements for Tappers

Notes:

ᵃ Recognition for this standard does not apply to testing and certification of equipment or materials used in installations excluded from the provisions of subpart S in 29 CFR 1910 by section 1910.302(a)(2).

ᵇ OSHA limits recognition for this standard to testing and certification of products used within recreational vehicles and mobile homes.

ᶜ OSHA limits recognition of this standard to testing and certification of the electrical devices falling within the standard's scope.

The designations and titles of the above test standards were current at the time of the preparation of this notice.

OSHA limits recognition of any NRTL for a particular test standard to equipment or materials (i.e., products) for which OSHA standards require third-party testing and certification before use of the product in the workplace. Consequently, if a test standard also covers any product for which OSHA does not require such testing and certification, an NRTL's scope of recognition does not include that product.

The American National Standards Institute (ANSI) may approve the test standards listed above as American National Standards. However, for convenience, we may use the designation of the standards-developing organization for the standard as opposed to the ANSI designation. Under the NRTL Program's policy (see OSHA Instruction CPL 1-0.3, Appendix C, paragraph XIV), any NRTL recognized for a particular test standard may use either the proprietary version of the test standard or the ANSI version of that standard. Contact ANSI to determine whether a test standard is currently ANSI-approved.

Conditions

UL also must abide by the following conditions of the recognition, in addition to those conditions already required by 29 CFR 1910.7:

1. UL must allow OSHA access to its facilities and records to ascertain continuing compliance with the terms of its recognition, and to perform investigations as OSHA deems necessary;

2. If UL has reason to doubt the efficacy of any test standard it is using under this program, it must promptly inform the test standard-developing organization of this concern and provide that organization with appropriate relevant information upon which it bases its concern;

3. UL must not engage in, or permit others to engage in, any misrepresentation of the scope or conditions of its recognition. As part of this condition, UL agrees that it will allow no representation that it is either a recognized or an accredited NRTL without clearly indicating the specific equipment or material to which this recognition applies, and also clearly indicating that its recognition is limited to specific products;

4. UL must inform OSHA as soon as possible, in writing, of any change of ownership, facilities, or key personnel, and of any major changes in its operations as an NRTL, including details of these changes;

5. UL will meet all the terms of its recognition, and will always comply with all OSHA policies pertaining to this recognition; and

6. UL will continue to meet the requirements for recognition in all areas covered by its scope of recognition.

Issue Regarding NFPA Standards

In this notice, OSHA is modifying the scopes of recognition of three NRTLs. Specifically, five standards that OSHA currently includes, to varying degrees, in the scopes of recognition of these NRTLs are not “appropriate test standards” under 29 CFR 1910.7(c) because they do not primarily cover product-safety testing. In addition, OSHA has no requirement for NRTL approval of the systems covered by these standards. Consequently, OSHA is removing the test standards from the scopes of recognition of each affected NRTL (see list below).

OSHA specifies a scope of recognition for each NRTL that includes a list of product-safety test standards that the NRTL may use in testing and certifying (i.e., approving) products; NRTLs must demonstrate that the products conform to “appropriate test standards,” as defined under 29 CFR 1910.7(c). “Appropriate test standards” are consensus-based product-safety test standards developed and maintained by U.S.-based standards-developing organizations (SDOs). These test standards are not OSHA standards, which are general requirements that employers must meet; the test standards specify technical safety requirements that particular types of products must meet.

The notice for the expansion described above also proposed the removal of these five test standards from each affected NRTL's scope of recognition. OSHA requested comments on the notice by May 11, 2010; OSHA received no comments in response to this notice. OSHA now is proceeding with this final notice modifying the scopes of recognition of the affected NRTLs (see list below).

OSHA will incorporate the modifications specified by this notice on its informational Web page for each affected NRTL. This page details OSHA's official scope of recognition for the NRTL, including the standards the NRTL may use to certify products under OSHA's NRTL Program. Access to these Web pages is available through http://www.osha.gov/dts/otpca/nrtl/index.html.

Modification to Each NRTL's Scope of Recognition: ³

³ For each test standard deleted, OSHA uses the name as it now appears on OSHA's informational Web page for each NRTL. These names may differ from the standard's current name (i.e., name as of the date of this notice), which are as follows:

ANSI/NFPA 11 Low-, Medium-, and High-Expansion Foam

ANSI/NFPA 12 Carbon Dioxide Extinguishing Systems

ANSI/NFPA 12A Halon 1301 Fire Extinguishing Systems

ANSI/NFPA 16 Standard for the Installation of Foam-Water Sprinkler and Foam-Water Spray Systems

ANSI/NFPA 17 Dry Chemical Extinguishing Systems

FM Approvals LLC (FM)

Deleted Test Standards:

ANSI 11 Low Expansion Foam and Combined Agent Systems

ANSI 12 Carbon Dioxide Extinguishing Systems

ANSI 12A Halon 1301 Fire Extinguishing Agent Systems

ANSI 16 Deluge Foam-Water Sprinkler and Spray Systems

ANSI 17 Dry Chemical Extinguishing Systems

Intertek Testing Services NA, Inc. (ITSNA)

Deleted Test Standards:

ANSI/NFPA 11 Low Expansion Foam and Combined Agent Systems

ANSI/NFPA 12 Carbon Dioxide Extinguishing Systems

ANSI/NFPA 12A Halon 1301 Fire Extinguishing Agent Systems

ANSI/NFPA 17 Dry Chemical Extinguishing Systems

Underwriters Laboratories Inc. (UL)

Deleted Test Standards:

ANSI/NFPA 11 Low Expansion Foam and Combined Agent Systems

ANSI/NFPA 12 Carbon Dioxide Extinguishing Systems

ANSI/NFPA 12A Halon 1301 Fire Extinguishing Agent Systems

ANSI/NFPA 17 Dry Chemical Extinguishing Systems

Authority and Signature

David Michaels, PhD, MPH, Assistant Secretary of Labor for Occupational Safety and Health, 200 Constitution Avenue, NW., Washington, DC 20210, directed the preparation of this notice. Accordingly, the Agency is issuing this notice pursuant to Sections 6(b) and 8(g) of the Occupational Safety and Health Act of 1970 (29 U.S.C. 655 and 657), Secretary of Labor's Order No. 4-2010 (75 FR 55355), and 29 CFR part 1911.

Signed at Washington, DC, on December 6, 2010.
David Michaels,
Assistant Secretary of Labor for Occupational Safety and Health.

[FR Doc. 2010-31048 Filed 12-9-10; 8:45 am]

BILLING CODE 4510-26-P